LEGAL SERVICES CORPORATION

Notice and Request for Comments—Final Guidelines for Automated Financial-Eligibility Screening

AGENCY: Legal Services Corporation.

ACTION: Notice; request for comments.

SUMMARY: The Legal Services Corporation is publishing for public comment a proposed program letter addressing standards for automated systems that LSC grantees might use to gather financial-eligibility information from applicants for legal services and to make financial-eligibility decisions for those applicants.

DATES: The program letter will be effective August 10, 2016. Written comments will be accepted until August 1, 2016.

ADDRESSES: Written comments must be submitted to Mark Freedman, Senior Associate General Counsel, Legal Services Corporation, 3333 K St. NW., Washington, DC 20007-3522; 202-337-6519 (fax); mfreedman@lsc.gov. LSC prefers electronic submissions via email with attachments in Acrobat PDF format. Written comments sent to any other address or received after the end of the comment period may not be considered by LSC.

FOR FURTHER INFORMATION CONTACT: Mark Freedman, Senior Associate General Counsel, Legal Services Corporation, 3333 K St. NW., Washington, DC 20007; 202-295-1623 (phone); 202-337-6519 (fax); mfreedman@lsc.gov.

SUPPLEMENTARY INFORMATION: The Legal Services Corporation (“LSC” or “Corporation”) was established by the United States Congress “for the purpose of providing financial support for legal assistance in noncriminal matters or proceedings to persons financially unable to afford such assistance.” 42 U.S.C. 2996b(a). LSC performs this function primarily by funding civil legal aid programs providing legal services to low-income persons throughout the United States and its possessions and territories in geographic areas determined by LSC. Each LSC funding recipient must screen all applicants for LSC-funded legal assistance to determine if the applicant's household meets the recipient's financial eligibility requirements for income and assets, which themselves must comply with the LSC financial eligibility requirements set forth at 45 CFR part 1611.

On March 26, 2012, LSC published for comment a draft program letter discussing minimum screening requirements for LSC recipients when determining financial eligibility of applicants based on information collected through automated online intake systems. 77 FR 17529. The draft program letter and comments received are in the “Closed Matters for Comment” section of LSC's Web site at: http://www.lsc.gov/about-lsc/matters-comment under “Draft Financial-Screening Program Letter”.

LSC received eight comments, all of which encouraged LSC to provide guidance on this topic. Four comments recommended that LSC not require a person at the grantee to make a direct follow-up contact regarding financial information for every applicant using an automated intake system. Three comments suggested clarifying who may provide financial eligibility information for an applicant through an automated system, and to include representatives of applicants, such as family members. One comment recommended separate requirements for applicants to be served by private attorneys volunteering with the grantee or providing reduced-fee services. One comment said that the proposed program letter was complete and adequate to explain the requirements.

Based on the comments and additional internal review, LSC has substantially revised the program letter to: (1) Eliminate the requirement for a follow-up contact by a person in all situations, (2) clarify that applicants or their authorized representatives may provide the financial information, and (3) provide guidelines for when the automated system may make a financial eligibility determination without review by a person. In all cases, the grantee must maintain clear and accessible records regarding the structure and operation of the system, maintain all information required for client-eligibility determinations, and engage in ongoing review of the system for improvements. Furthermore, grantees must design and operate these systems so as to maintain access to services for people with disabilities.

The revised program letter is available on the LSC Web site at http://www.lsc.gov/about-lsc/matters-comment. LSC will accept comments on the notice for thirty days and, if the comments warrant, will issue an additional notice modifying the proposed program letter and adjusting the effective date. In the absence of any such notice, the revised program letter will be effective forty days after publication of this notice in the Federal Register.

Dated: June 27, 2016.
Mark Freedman,
Senior Associate General Counsel.

[FR Doc. 2016-15578 Filed 6-30-16; 8:45 am]

BILLING CODE 7050-01-P